DEPARTMENT OF THE TREASURY

Foreign Assets Control Office

Actions Taken Pursuant to Executive Order 13551

AGENCY: Office of Foreign Assets Control, Treasury.

ACTION: Notice.

SUMMARY: The Treasury Department's Office of Foreign Assets Control (“OFAC”) is publishing the names of two entities whose property and interests in property are blocked pursuant to Executive Order 13551 of August 30, 2010, as well as the names of 18 vessels in which these entities have property interests.

DATES: OFAC's actions pursuant to Executive Order 13551 described in this notice were effective July 30, 2014.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

Additional information concerning OFAC is available from OFAC's Web site (www.treas.gov/ofac). Certain general information pertaining to OFAC's sanctions programs is available via facsimile through a 24-hour fax-on-demand service, tel.: 202/622-0077.

Background

On August 30, 2010, the President issued Executive Order 13551 (“Blocking Property of Certain Persons With Respect to North Korea”) (the “Order”).

Section 1 of the Order blocks, with certain exceptions, all property and interests in property that are in the United States, that hereafter come within the United States, or that hereafter come within the possession or control of any United States person, including any foreign branch, of persons listed in the Annex to the Order, as well as persons determined by the Secretary of the Treasury, in consultation with the Secretary of State, to meet any of the criteria set forth in subsection (a)(ii) of section 1.

On July 30, 2014, the Director of OFAC designated the following two entities as persons whose property and interests in property are blocked pursuant to section 1 of E.O. 13551:

Entities

1. CHONGCHONGANG SHIPPING COMPANY LIMITED (a.k.a. CHONG CHON GANG SHIPPING CO. LTD; a.k.a. CHONGCHONGANG SHIPPING CO LTD), 817, Haeun, Donghung-dong, Central District, Pyongyang, Korea, North; 817, Haeun, Tonghun-dong, Chung-gu, Pyongyang, Korea, North; Identification Number IMO 5342883 [DPRK].

2. OCEAN MARITIME MANAGEMENT COMPANY LIMITED (a.k.a. EAST SEA SHIPPING COMPANY), Dongheung-dong Changgwang Street, Chung-ku, PO Box 125, Pyongyang, Korea, North; Donghung Dong, Central District, PO Box 120, Pyongyang, Korea, North; No. 10, 10th Floor, Unit 1, Wu Wu Lu 32-1, Zhong Shan Qu, Dalian City, Liaoning Province, China; 22 Jin Cheng Jie, Zhong Shan Qu, Dalian City, Liaoning Province, China; 43-39 Lugovaya, Vladivostok, Russia; CPO Box 120, Tonghung-dong, Chung-gu, Pyongyang, Korea, North; Bangkok, Thailand; Lima, Peru; Port Said, Egypt; Singapore; Brazil; Identification Number IMO 1790183 [DPRK].

In addition, on July 30, 2014, the Director of OFAC identified the following vessel as blocked property of CHONGCHONGANG SHIPPING COMPANY LIMITED, an entity whose property and interests in property are blocked pursuant to E.O. 13551:

Vessel

1. CHONG CHON GANG General Cargo Democratic People's Republic of Korea flag; Vessel Registration Identification IMO 7937317 (vessel) [DPRK].

Finally, on July 30, 2014, the Director of OFAC identified the following 17 vessels as blocked property of OCEAN MARITIME MANAGEMENT COMPANY LIMITED, an entity whose property and interests in property are blocked pursuant to E.O. 13551:

Vessels

1. AM NOK GANG (a.k.a. AP ROK GANG) General Cargo Democratic People's Republic of Korea flag; Vessel Registration Identification IMO 8132835 (vessel) [DPRK].

2. BAEK MA KANG General Cargo Democratic People's Republic of Korea flag; Vessel Registration Identification IMO 7944683 (vessel) [DPRK].

3. DAI HONG DAN General Cargo Democratic People's Republic of Korea flag; Vessel Registration Identification IMO 7944695 (vessel) [DPRK].

4. DOK CHON General Cargo Democratic People's Republic of Korea flag; Vessel Registration Identification IMO 7411260 (vessel) [DPRK].

5. HWANG GUM SAN 2 General Cargo Democratic People's Republic of Korea flag; Vessel Registration Identification IMO 8405270 (vessel) [DPRK].

6. HYOK SIN 2 Bulk Carrier Democratic People's Republic of Korea flag; Vessel Registration Identification IMO 8018900 (vessel) [DPRK].

7. JANG JA SAN CHONG NYON HO Bulk Carrier Democratic People's Republic of Korea flag; Vessel Registration Identification IMO 8133530 (vessel) [DPRK].

8. JON JIN 2 Bulk Carrier Democratic People's Republic of Korea flag; Vessel Registration Identification IMO 8018912 (vessel) [DPRK].

9. MU DU BONG General Cargo Democratic People's Republic of Korea flag; Vessel Registration Identification IMO 8328197 (vessel) [DPRK].

10. O UN CHONG NYON HO General Cargo Democratic People's Republic of Korea flag; Vessel Registration Identification IMO 8330815 (vessel) [DPRK].

11. PHO THAE General Cargo Democratic People's Republic of Korea flag; Vessel Registration Identification IMO 7632955 (vessel) [DPRK].

12. PI RUY GANG General Cargo Democratic People's Republic of Korea flag; Vessel Registration Identification IMO 8829593 (vessel) [DPRK].

13. PO THONG GANG General Cargo Democratic People's Republic of Korea flag; Vessel Registration Identification IMO 8829555 (vessel) [DPRK].

14. RAK WON 2 General Cargo Democratic People's Republic of Korea flag; Vessel Registration Identification IMO 8819017 (vessel) [DPRK].

15. RYONG GANG 2 General Cargo Democratic People's Republic of Korea flag; Vessel Registration Identification IMO 7640378 (vessel) [DPRK].

16. RYONG GUN BONG General Cargo Democratic People's Republic of Korea flag; Vessel Registration Identification 8606173 (vessel) [DPRK].

17. TAE DONG GANG General Cargo Democratic People's Republic of Korea flag; Vessel Registration Identification IMO 7738656 (vessel) [DPRK].

The entities and vessels named above have been added to OFAC's List of Specially Designated Nationals and Blocked Persons with the identifying tag “DPRK.”

Dated: July 30, 2014.
Adam J. Szubin,
Director, Office of Foreign Assets Control.

[FR Doc. 2014-19012 Filed 8-11-14; 8:45 am]

BILLING CODE 4810-AL-P